DEPARTMENT OF ENERGY

Federal Energy Regulatory Commission

Combined Notice of Filings #1

Take notice that the Commission received the following electric corporate filings:

Docket Numbers: EC18-90-000.

Applicants: Washington County Power, LLC.

Description: Application for Authorization of Transaction Under Section 203 of the Federal Power Act, and Requests for Expedited Action, et. al. of Washington County Power, LLC.

Applicants: 5/1/18.

Accession Number: 20180501-5417.

Comments Due: 5 p.m. ET 5/22/18.

Take notice that the Commission received the following electric rate filings:

Docket Numbers: ER10-3194-006; ER10-3195-006.

Applicants: MATEP LLC, MATEP Limited Partnership.

Description: Notice of Non-Material Change in Status of MATEP LLC, et al.

Applicants: 4/30/18.

Accession Number: 20180430-5522.

Comments Due: 5 p.m. ET 5/21/18.

Docket Numbers: ER16-1346-004.

Applicants: Midcontinent Independent System Operator, Inc.

Description: Compliance filing: 2018-05-02_SA 2911 LEPA-MISO External NRIS (J373) Compliance (4th Sub) to be effective 4/6/2016.

Applicants: 5/2/18.

Accession Number: 20180502-5154.

Comments Due: 5 p.m. ET 5/23/18.

Docket Numbers: ER16-1817-005.

Applicants: Midcontinent Independent System Operator, Inc.

Description: Compliance filing: 2018-05-02_Additional Compliance filing of E-NRIS pro forma (5th) to be effective 4/5/2016.

Applicants: 5/2/18.

Accession Number: 20180502-5153.

Comments Due: 5 p.m. ET 5/23/18.

Docket Numbers: ER17-256-004; ER17-242-004; ER17-243-004; ER17-245-004; ER17-652-004

Applicants: Darby Power, LLC, Gavin Power, LLC, Lawrenceburg Power, LLC, Lightstone Marketing LLC, Waterford Power, LLC.

Description: Notice of Change in Status of Darby Power, LLC, et. al.

Applicants: 4/30/18.

Accession Number: 20180430-5521.

Comments Due: 5 p.m. ET 5/21/18.

Docket Numbers: ER18-1217-001.

Applicants: Southwestern Electric Power Company.

Description: Tariff Amendment: Amended and Restated NTEC PSA to be effective 5/31/2018.

Applicants: 5/3/18.

Accession Number: 20180503-5012.

Comments Due: 5 p.m. ET 5/24/18.

Docket Numbers: ER18-1511-000.

Applicants: PJM Interconnection, L.L.C.

Description: § 205(d) Rate Filing: Second Revised ISA, SA No. 3483; Queue No. AA2-069 to be effective 4/2/2018.

Applicants: 5/2/18.

Accession Number: 20180502-5150.

Comments Due: 5 p.m. ET 5/23/18.

Docket Numbers: ER18-1512-000.

Applicants: Virginia Electric and Power Company.

Description: Compliance filing: Informational Filing of Virginia Electric and Power Company to be effective N/A.

Applicants: 5/3/18.

Accession Number: 20180503-5001.

Comments Due: 5 p.m. ET 5/24/18.

Docket Numbers: ER18-1513-000

Applicants: Entergy Arkansas, Inc., Entergy Louisiana, LLC, Entergy Mississippi, Inc., Entergy New Orleans, LLC, Entergy Texas, Inc.

Description: Post-Retirement Benefits Other than Pensions for 2017 Test Year of Entergy Arkansas, Inc., et al.

Applicants: 5/1/18.

Accession Number: 20180501-5416.

Comments Due: 5 p.m. ET 5/22/18.

Take notice that the Commission received the following electric securities filings:

Docket Numbers: ES18-36-000; ES18-37-000.

Applicants: Entergy Arkansas, LLC, Entergy Mississippi, LLC.

Description: Joint Application for Section 204 Authorizations of Entergy Arkansas, LLC, et al.

Applicants: 4/30/18.

Accession Number: 20180430-5519.

Comments Due: 5 p.m. ET 5/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2018.
Nathaniel J. Davis, Sr.,
Deputy Secretary.

[FR Doc. 2018-09861 Filed 5-8-18; 8:45 am]

BILLING CODE 6717-01-P